DEPARTMENT OF DEFENSE

Department of the Air Force

U.S. Air Force Scientific Advisory Board Notice of Meeting

AGENCY: Department of the Air Force, US Air Force Scientific Advisory Board

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the United States Air Force Scientific Advisory Board (SAB) meeting will take place on Wednesday and Thursday, October 6th—October 7th, 2010 at the SAF/AQ Conference and Innovation Center, 1550 Crystal Drive, Arlington, VA 22202. The meeting on Wednesday, October 6th, will be from 8 a.m.-4:30 p.m., and the meeting on Thursday, October 7th, will be from 8 a.m.-11:45 p.m. The purpose of this Air Force Scientific Advisory Board quarterly meeting is to welcome and introduce new members of the Board, provide information to members about Board policy and procedures, and provide classified briefings concerning the status of the Air Force as it relates to the SAB mission. The briefings and discussion will include presentations from senior Air Force and other DoD leadership. Pursuant to 5 U.S.C. 552b, as amended, and 41 CFR 102-3.155, the Administrative Assistant of the Air Force, in consultation with the Office of the Air Force General Counsel, has determined in writing that the public interest requires that some of the sessions of the United States Air Force Scientific Advisory Board meeting be closed to the public because they will be concerned with classified information and matters involving trade secrets, per sections 5 U.S.C. 552b(c)(1) and (4). The two sessions on 6 Oct 10, from 0800-0915, will be open to the general public. The remaining sessions on 6 Oct 10 and 7 Oct 10 will be closed to the general public. Any member of the public wishing to provide input to the United States Air Force Scientific Advisory Board can also submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Executive Director and Designated Federal Officer, Lt Col Anthony M. Mitchell, 301-981-7135, United States Air Force Scientific Advisory Board, 1602 California Avenue, Suite #251, Andrews AFB, MD 20762, AnthonyM.mitchell@pentagon.af.mil.

Bao-Anh Trinh,
Air Force Federal Register Liaison Officer.

[FR Doc. 2010-22152 Filed 9-3-10; 8:45 am]

BILLING CODE 5001-10-P